DEPARTMENT OF COMMERCE

International Trade Administration

[A-570-964]

Seamless Refined Copper Pipe and Tube From the People's Republic of China: Amended Final Results of Antidumping Duty Administrative Review; 2011-2012

AGENCY: Enforcement and Compliance, International Trade Administration, Department of Commerce.

SUMMARY: The Department of Commerce (“the Department”) is amending the final results of the 2011-2012 administrative review of the antidumping duty order on seamless refined copper pipe and tube (“copper pipe”) from the People's Republic of China (“PRC”) to correct a ministerial error.¹ The period of review (“POR”) is November 1, 2011 through October 31, 2012.

¹ See Seamless Refined Copper Pipe and Tube From the People's Republic of China: Final Results of Antidumping Duty Administrative Review; 2011-2012, 79 FR 23324 (April 28, 2014) (“Final Results”), and accompanying Issues and Decision Memorandum (“I&D Memo”).

DATES: Effective Date: August 12, 2014.

FOR FURTHER INFORMATION CONTACT: Thomas Martin, AD/CVD Operations, Office IV, Enforcement and Compliance, International Trade Administration, U.S. Department of Commerce, 14th Street and Constitution Avenue NW., Washington, DC 20230; telephone: (202) 482-3936.

SUPPLEMENTARY INFORMATION:

Background

On April 22, 2014, the Department disclosed to interested parties its calculations for the Final Results.² On April 28, 2014, we received ministerial error comments from Golden Dragon.³ On May 1, 2014, we received ministerial error rebuttal comments from Petitioners.⁴ No other interested party submitted comments.

² The interested parties include: Cerro Flow Products, LLC, Wieland Copper Products, LLC, Mueller Copper Tube Products Inc., and Mueller Copper Tube Company, Inc. (collectively, “Petitioners”), and Golden Dragon Precise Copper Tube Group, Inc., Hong Kong GD Trading Co., Ltd., and Golden Dragon Holding (Hong Kong) International, Ltd. (collectively, “Golden Dragon”).

³ See Letter from Golden Dragon to the Honorable Penny Pritzker, “Re: Seamless Steel Copper Pipe and Tube from the People's Republic of China (11/1/11-10/31/12); Ministerial Error Allegation with respect to the Final Determination for Golden Dragon,” dated April 28, 2014.

⁴ See Letter from Petitioners to The Honorable Penny S. Pritzker, “Re: Seamless Refined Copper Pipe and Tube from the People's Republic of China: Petitioners' Rebuttal Comments to Golden Dragon's Ministerial Error Allegation,” dated May 1, 2014.

Before the Department could take action on the alleged ministerial error, both Golden Dragon and Petitioners filed a summons and complaint with the U.S. Court of International Trade (“CIT”) challenging the Final Results, which vested the CIT with jurisdiction over the administrative proceeding.⁵ On July 18, 2014, the CIT granted the Department leave to publish amended final results upon considering the ministerial error allegation.⁶

⁵ See Zenith Elecs. Corp. v. United States, 884 F.2d 556, 561-62 (Fed. Cir. 1989).

⁶ See Golden Dragon Precise Copper Tube Group, Inc. v. United States, Slip Op. 14-85, Consol. Court No. 14-00116 (Ct. Int'l Trade July 18, 2014).

Scope of the Order

For a full description of the products covered by the antidumping duty order, see Memorandum to Paul Piquado, Assistant Secretary for Enforcement and Compliance, through Gary Taverman, Senior Advisor for Antidumping and Countervailing Duty Operations, from Abdelali Elouaradia, Director, Office IV, “Antidumping Duty Administrative Review: Seamless Refined Copper Pipe and Tube from the People's Republic of China; 2011-2012: Ministerial Error Allegation Memorandum,” dated concurrently with and hereby adopted by this notice (“Ministerial Error Memo”).

Ministerial Errors

Section 751(h) of the Tariff Act of 1930, as amended (“the Act”), and 19 CFR 351.224(f) define a “ministerial error” as an error “in addition, subtraction, or other arithmetic function, clerical error resulting from inaccurate copying, duplication, or the like, and any similar type of unintentional error which the Secretary considers ministerial.” After analyzing the ministerial error comments and rebuttal comments, we have determined, in accordance with section 751(h) of the Act and 19 CFR 351.224(e), that we made the following ministerial error in our calculations for the Final Results: we inadvertently did not cap Golden Dragon's reported freight distances for factors of production valued using import statistics pursuant to the rule in Sigma.⁷ For a detailed discussion of this error, as well as the Department's analysis, see Ministerial Error Memo.

⁷ See Sigma Corp. v. United States, 117 F.3d 1401, 1407-08 (Fed. Cir. 1997) (“Sigma”).

In accordance with section 751(h) of the Act and 19 CFR 351.224(e), we are amending the Final Results for Golden Dragon. The revised weighted-average dumping margin for Golden Dragon is detailed below.

Amended Final Results of Administrative Review

The amended weighted-average dumping margins are as follows:

Exporter | Weighted-average dumping margin (percent)
Golden Dragon Precise Copper Tube Group, Inc., Hong Kong GD Trading Co., Ltd., and Golden Dragon Holding (Hong Kong) International, Ltd. | 4.48

Disclosure

We will disclose the calculations performed for these amended final results to interested parties within five days of the date of publication of this notice in accordance with 19 CFR 351.224(b).

Assessment Rates

Pursuant to section 751(a)(2)(A) of the Act and 19 CFR 351.212(b), the Department will determine, and U.S. Customs and Border Protection (“CBP”) shall assess, antidumping duties on all appropriate entries of subject merchandise in accordance with the amended final results of this review. The Department intends to issue assessment instructions to CBP 15 days after the publication date of the amended final results of this review.

For assessment purposes, we calculated importer-specific assessment rates for merchandise subject to this review. We will continue to direct CBP to assess importer-specific assessment rates based on the resulting per-unit (i.e., per-kg) rates for each entry of the subject merchandise during the POR. Specifically, we calculated importer-specific duty assessment rates on a per-unit rate basis by dividing the total amount of dumping for each importer by the total sales quantity of subject merchandise sold to that importer during the POR. We also estimated each importer's ad valorem assessment rate by dividing the total amount of dumping for each importer by the total estimated entered value of those same sales. If an estimated importer-specific ad valorem assessment rate is de minimis (i.e., less than 0.50 percent), the Department will instruct CBP to liquidate that importer entries of subject merchandise without regard to antidumping duties, in accordance with 19 CFR 351.106(c)(2).

Cash Deposit Requirements

The following cash deposit requirements are effective as of April 28, 2014, the date of publication of the Final Results, for all shipments of the subject merchandise entered, or withdrawn from warehouse, for consumption, as provided for by section 751(a)(2)(C) of the Act: (1) For the exporters identified above, the cash deposit rate will be equal to their weighted-average dumping margin in these amended final results of review; (2) for previously investigated or reviewed PRC and non-PRC exporters not listed above that received a separate rate in a previously completed segment of this proceeding, the cash deposit rate will continue to be the existing exporter-specific rate published for the most recent period; (3) for all PRC exporters of subject merchandise that have not been found to be entitled a separate rate in the Final Results, the cash deposit rate will be that for the PRC-wide entity (i.e., 60.85 percent); and (4) for all non-PRC exporters of subject merchandise which have not received their own rate, the cash deposit rate will be the rate applicable to the PRC exporter that supplied that non-PRC exporter. These deposit requirements, when imposed, shall remain in effect until further notice.

Reimbursement of Duties

This notice also serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective order (“APO”) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

These amended final results are published in accordance with sections 751(h) and 777(i)(1) of the Act.

Dated: August 6, 2014.
Paul Piquado,
Assistant Secretary for Enforcement and Compliance.

[FR Doc. 2014-19056 Filed 8-11-14; 8:45 am]

BILLING CODE 3510-DS-P